DEPARTMENT OF TRANSPORTATION

Office of the Secretary

Notice of Applications for Certificates of Public Convenience and Necessity and Foreign Air Carrier Permits Filed Under Subpart B (Formerly Subpart Q) During the Week Ending May 19, 2006

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2006-24834.

Date Filed: May 16, 2006.

Due Date for Answers, Conforming Applications, or Motion to Modify Scope: June 6, 2006.

Description: Application of NEOS S.p.A. requesting a foreign air carrier permit authorizing (i) the carriage of international charter traffic of passengers and their accompanying baggage, and/or cargo between any point or points in the Republic of Italy and any point or points in the territory of the United States; and between any point or points in the United States and any point or points in any third country or countries subject to the conditions set out in the currently effective “Open Skies” agreement between the Republic of Italy and the United States of America; and (ii) such other charter trips in foreign air transportation as the Department may authorize pursuant to the terms, conditions and limitations of Part 212.

Renee V. Wright,
Program Manager, Docket Operations, Federal Register Liaison.

[FR Doc. E6-8983 Filed 6-8-06; 8:45 am]

BILLING CODE 4910-9X-P